DEPARTMENT OF COMMERCE

National Oceanic and Atmospheric Administration

50 CFR Part 648

[Docket No. 060315071-6071-01; I.D. 030906C]

RIN 0648-AT22

Fisheries of the Northeastern United States; Monkfish Fishery

AGENCY: National Marine Fisheries Service (NMFS), National Oceanic and Atmospheric Administration (NOAA), Commerce.

ACTION: Proposed rule; request for comments.

SUMMARY: NMFS proposes to establish target total allowable catch (TAC) levels for the monkfish fishery for the 2006 fishing year (FY), adjust trip limits, and establish days-at-sea (DAS) restrictions for limited access monkfish vessels fishing in the Southern Fishery Management Area (SFMA) based upon the annual target TAC setting, trip limit, and DAS adjustment methods established in Framework Adjustment 2 (Framework 2) to the Monkfish Fishery Management Plan (FMP). The proposed action is necessary to comply with the rebuilding plan established in the FMP and modified in Framework 2. The intent of this action is to help eliminate overfishing and rebuild the monkfish resource in accordance with Magnuson-Stevens Fishery Conservation and Management Act (Magnuson-Stevens Act) requirements.

DATES: Comments must be received by 5 p.m. on April 3, 2006.

ADDRESSES: Written comments on the proposed rule may be submitted by any of the following methods:

• E-mail: E-mail comments may be submitted to 2006monkTACs@noaa.gov. Include in the subject line the following “Comments on the Proposed Rule for the 2005 Monkfish Annual Adjustment.”

• Federal e-Rulemaking Portal: http://www.regulations.gov.

• Mail: Comments submitted by mail should be sent to Patricia A. Kurkul, Regional Administrator, Northeast Region, NMFS, One Blackburn Drive, Gloucester, MA 01930-2298. Mark the outside of the envelope “Comments on the Proposed Rule for the 2006 Monkfish Annual Adjustment.”

• Facsimile (fax): Comments submitted by fax should be faxed to (978) 281-9135.

Copies of the Environmental Assessment (EA), including the Regulatory Impact Review (RIR) and Initial Regulatory Flexibility Analysis (IRFA), prepared for this action are available upon request from Paul Howard, Executive Director, New England Fishery Management Council, 50 Water Street, Newburyport, MA, 01950. The document is also available online at www.nefmc.org.

FOR FURTHER INFORMATION CONTACT: Allison Ferreira, Fishery Policy Analyst, e-mail Allison.Ferreira@noaa.gov, phone (978) 281-9103, fax (978) 281-9135.

SUPPLEMENTARY INFORMATION:

Background

The monkfish fishery is jointly managed by the New England Fishery Management Council (NEFMC) and the Mid-Atlantic Fishery Management Council (MAFMC), with the NEFMC having the administrative lead. Framework 2 to the FMP, which became effective on May 1, 2003 (68 FR 22325; April 28, 2003), implemented a method to set the annual target TAC. This method is based upon the relationship between the 3-year running average of NMFS's fall trawl survey biomass index (3-year average biomass index) and established annual biomass index targets (annual index target). The annual index targets are based on 10 equal increments between the 1999 biomass index (the start of the rebuilding program) and the biomass target (Btarget), which is to be achieved by 2009 according the rebuilding plan established in the FMP. According to this target TAC setting method, annual target TACs are set based on the ratio of the current 3-year average biomass index to the annual index target applied to the monkfish landings for the previous complete fishing year (e.g., FY 2004). This rebuilding program, established in Framework 2, is based on established formulas for calculating TACs, trip limits, and DAS allocations.

The Monkfish Monitoring Committee reviewed the fall trawl survey biomass indices and monkfish landings for FY 2004, and calculated the target TACs for FY 2006 in accordance with the procedures established in Framework 2. According to these procedures, if the current 3-year average biomass index is below the annual index target, then the target TAC for the upcoming fishing year (e.g., FY 2006) is set equivalent to the monkfish landings for the previous fishing year (e.g., FY 2004), minus the percentage difference between the 3-year average biomass index and the annual index target. Based on the information presented in Table 1, the current 3-year average biomass indices are less than the current targets for both management areas. Therefore, the proposed FY 2006 target TAC for the Northern Fishery Management Area (NFMA) is 7,737 mt (33.7 percent less than FY 2004 landings), and the proposed FY 2006 target TAC for the SFMA is 3,667 mt (39.7 percent less than FY 2004 landings).

Table 1. Calculation of 2006 Target TACs.
Management Area | FY 2004 Landings (mt) | 2005 3-year Average (kg/tow) | 2005 Biomass Target (kg/tow) | Percent Below Target | 2006 Target TAC (mt)
NFMA | 11,666 | 1.214 | 1.83 | 33.7 % | 7,737
SFMA | 6,078 | 0.778 | 1.29 | 39.7 % | 3,667

This action does not propose any changes to the management measures for limited access monkfish vessels fishing in the NFMA because the annual adjustment procedure specified in the regulations applies only to the SFMA. At the time Framework 2 was developed and implemented, the monkfish resource was well above the Bthreshold established for the NFMA. However, recent restrictions on fishing effort in the Northeast multispecies fishery, implemented through Amendment 13 to the Northeast Multispecies FMP, have helped constrain monkfish effort in the NFMA. In fact, monkfish landings during FY 2004 were only 69 percent of the FY 2004 target TAC for that management area. Furthermore, proposed additional effort restrictions in the Northeast multispecies fishery to be implemented during FY 2006 (through the emergency Secretarial action and joint Northeast Multispecies Framework 42/Monkfish Framework 3) are expected to further constrain monkfish landings.

Framework 2 established a procedure for the SFMA that requires either the DAS or the trip limits to be adjusted based on whether the target TAC is less than or greater than 8,000 mt (the approximate target TAC level that would result in the 550 and 450 lb (249 and 204 kg, respectively) tail weight trip limits). Since this action proposes a target TAC for the SFMA that is well below 8,000 mt, this action would reduce the trip limits for vessels fishing in the SFMA to 550 lb (249 kg) tail weight per DAS for limited access Category A, C, and G vessels, and 450 lb (204 kg) tail weight per DAS for limited access Category B, D, and H vessels, and also restrict the FY 2006 DAS available for monkfish limited access vessels fishing in the SFMA to 12 monkfish DAS (plus up to 10 carryover DAS). The number of DAS available to limited access monkfish vessels fishing in the SFMA during FY 2006 was calculated using the analysis procedures established in Framework 2 and outlined in the regulations at § 648.96(b)(3).

This action would also notify limited access monkfish vessels of the monkfish DAS proration for vessels participating in the Offshore Fishery Program in the SFMA. The Offshore Fishery Program, which was established through Amendment 2 to the FMP (70 FR 21927; April 28, 2005), authorizes limited access monkfish permit holders with Category A, B, C, or D permits to elect, on an annual basis, to participate in a designated offshore monkfish fishery in the SFMA by obtaining a Category F permit for the fishing year. Under this program, participants are allowed a higher daily possession limit of 1,600 lb (726 kg) of monkfish tails per DAS in exchange for a reduced monkfish DAS allocation. DAS allocations for Category F vessels are reduced proportionally from the DAS allocated to Category A, B, C, and D permits, according to the ratio of the SFMA trip limit that would otherwise be in effect for that permit category to the 1,600 lb (726 kg) Category F permit trip limit. For example, in FY 2006, and assuming no carryover DAS, Category A and C permit holders who elect to switch to a Category F permit would be authorized to fish 4.1 DAS, and Category B and D permit holders would be authorized to fish 3.4 DAS. Any carryover DAS available to the permit holder would be factored into the proration and would affect the number of DAS authorized.

Classification

NMFS has determined that the proposed rule is consistent with the FMP and preliminarily determined that the rule is consistent with the Magnuson-Stevens Act and other applicable laws.

This proposed rule has been determined to be not significant for purposes of E.O. 12866.

The NEFMC prepared an IRFA as required by section 603 of the Regulatory Flexibility Act (RFA). The IRFA describes the economic impact this proposed rule, if adopted, would have on small entities. A description of the action, why it is being considered, and the legal basis for this action are contained at the beginning of this preamble and in the SUMMARY. A summary of the analysis follows:

The FMP requires that the status of the monkfish resource be reviewed on an annual basis. In addition, the measures contained in Framework 2 established an annual target TAC setting method that is based on the most recent 3-year running average of the NMFS fall trawl survey biomass index as compared to an established annual index target. Framework 2 also established a method for adjusting trip limits and DAS, as necessary, for vessels fishing in the SFMA in order to achieve the target TAC for that area. This action utilizes the target TAC setting and trip limit and DAS adjustment methods implemented in Framework 2 to establish target TACs, trip limits, and DAS restrictions for FY 2006.

The regulations implementing the FMP, found at 50 CFR part 648, subpart F, authorize adjustment of the management measures as needed in order to achieve the goals of the FMP. Framework 2 adjusted FMP management measures by establishing a streamlined process for setting annual target TACs, and for adjusting trip limits and DAS allocations, as needed, to achieve those target TACs. The objective of this action is to achieve the goals of the FMP through the application of the target TAC setting method established in Framework 2 for FY 2006.

All of the entities (fishing vessels) affected by this action are considered small entities under the Small Business Administration size standards for small fishing businesses ($3.5 million in gross sales). Therefore, there is no disproportionate impact on small entities compared to large entities. Currently, there are approximately 741 limited access monkfish permit holders and approximately 2,263 vessels holding an open access monkfish permit. This action would affect only limited access monkfish vessels while fishing for monkfish in the SFMA, since no changes to the management measures for the NFMA are proposed. Based on activity reports for FY 2004 (the most recent fishing year for which complete information is available), there were 491 limited access permit holders participating in the monkfish fishery. Of these, 151 vessels fished for monkfish exclusively in the SFMA, while 171 vessels fished for monkfish in both management areas. Thus, the proposed measures would likely affect at least the 325 vessels that fished for monkfish for at least part of the fishing year in the SFMA, but would likely have the greatest effect on the 151 vessels that fished for monkfish exclusively in the SFMA.

The combined target TAC for both management areas would be decreased by approximately 50 percent compared to FY 2005. Individually, the target TAC for the NFMA would be reduced by 41 percent, while the target TAC for the SFMA would be reduced by 62 percent. In addition, monkfish trip limits in the SFMA would be reduced by approximately 25 percent and DAS would be reduced by nearly 70 percent. Thus, the proposed measures would have differential impacts on participating vessels depending on the management area in which they fish.

A trip limit model was used to estimate the impact of the proposed SFMA trip limits on the average per trip return for vessels on monkfish trips. Based on this analysis, on average, a trip taken in the SFMA would produce 16.9 percent less income towards fixed costs, debt, and owner profit under the proposed trip limits and DAS restrictions for FY 2006 as compared to FY 2005 trip limits and DAS. In addition, net pay per crew member would decrease by an average of 17.1 percent per trip.

As previously stated, vessels fishing in the NFMA would not be affected by the proposed measures for the SFMA. The average impact on vessels fishing in both management areas is estimated to be approximately a 2-percent decrease in both net pay to crew and net return to the vessel, though average decreases for NJ vessels would be more than 10 percent. The average impact on vessels fishing exclusively in the SFMA is estimated to be a 34.3-percent decrease in net pay to the crew, and a 31.8-percent decrease in returns to the vessel owner. These effects vary greatly between states, with vessels from NC experiencing smaller decreases relative to vessels from MA and NJ, where average decreases range from 40 to 50 percent.

The annual target TAC setting method established in Framework 2 is based on a formula that integrates an annual biomass index target with the 3-year running average of the NMFS fall trawl survey and the monkfish landings for the previous fishing year. The FY 2006 target TACs result from the application of this methodology. As a result, there are no other reasonable alternatives to the proposed action to establish target TACs of 7,737 mt for the NFMA and 3,667 mt for the SFMA, other than no action, that meet the requirements of the Magnuson-Stevens Act, the FMP, and implementing regulations. Furthermore, Framework 2 also established an formulaic method for adjusting trip limits and DAS for the SFMA that is based on the distribution of monkfish landings and DAS used by limited access vessels. The proposed trip limits of 550 lb (249 kg) per DAS for limited access Category A, C, and G vessels, and 450 lb (204 kg) per DAS for limited access Category B, D, and H vessels, and the calculated DAS limitation of 12 monkfish DAS that would be applicable to limited access monkfish vessels fishing in the SFMA are the result if the application of this formula.

This proposed rule does not duplicate, overlap or conflict with other Federal rules, and does not contain new reporting or recordkeeping requirements.

A copy of this analysis is available from the NEFMC (see ADDRESSES).

List of Subjects in 50 CFR Part 648

Fisheries, Fishing, Reporting and recordkeeping requirements.

Dated: March 16, 2006.
James W. Balsiger,
Acting Deputy Assistant Administrator for Regulatory Programs, National Marine Fisheries Service.

For the reasons set out in the preamble, 50 CFR part 648 is proposed to be amended as follows:

PART 648—FISHERIES OF THE NORTHEASTERN UNITED STATES

1. The authority citation for part 648 continues to read as follows:

Authority: 16 U.S.C. 1801 et seq.

2. In § 648.92, paragraph (b)(1)(ii) is added to read as follows:

§ 648.92 Effort-control program for monkfish limited access vessels.

* * * * *

(b) * * *

(1) * * *

(ii) FY 2006 DAS restrictions for vessels fishing in the SFMA. For the 2006 fishing year, limited access monkfish vessels are restricted to utilizing only 12 of their 40 monkfish DAS allocation in the SFMA. If a vessel does not possess a valid letter of authorization from the Regional Administrator to fish in the NFMA as described in § 648.94(f), NMFS will presume that any monkfish DAS used was fished in the SFMA.

* * * * *

3. In § 648.94, paragraphs (b)(2)(i) and (ii) are revised to read as follows:

§ 648.94 Monkfish possession and landing restrictions.

* * * * *

(b) * * *

(2) * * *

(i) Category A, C, and G vessels. Category A, C, and G vessels fishing under the monkfish DAS program in the SFMA may land up to 550 lb (249 kg) tail weight or 1,826 lb (828 kg) whole weight of monkfish per monkfish DAS (or any prorated combination of tail-weight and whole weight based on the conversion factor for tail weight to whole weight of 3.32), unless modified pursuant to § 648.96(b)(2)(ii).

(ii) Category B and D vessels. Category B, D, and H vessels fishing under the monkfish DAS program in the SFMA may land up to 450 lb (204 kg) tail weight or 1,494 lb (678 kg) whole weight of monkfish per monkfish DAS (or any prorated combination of tail-weight and whole weight based on the conversion factor for tail weight to whole weight of 3.32), unless modified pursuant to § 648.96(b)(2)(ii).

* * * * *

[FR Doc. E6-4158 Filed 3-21-06; 8:45 am]

BILLING CODE 3510-22-S